NATIONAL CREDIT UNION ADMINISTRATION

Sunshine Act Meetings

FEDERAL REGISTER CITATION OF PREVIOUS ANNOUNCEMENT: 90 FR 10643.

PREVIOUSLY ANNOUNCED TIME AND DATE OF THE MEETING: 10:00 a.m., Thursday, February 27, 2025.

CHANGES IN THE MEETING:

Matter to be removed from the agenda of an agency meeting:

2. NCUA Board Vice Chairman Designation.

The NCUA Board voted unanimously that agency business required this item be removed from the agenda with less than one week notice to the public, and that no earlier notice of the removal was possible.

CONTACT PERSON FOR MORE INFORMATION: Melane Conyers-Ausbrooks, Secretary of the Board, Telephone: 703-518-6304.

Melane Conyers-Ausbrooks,
Secretary of the Board.

[FR Doc. 2025-03506 Filed 2-28-25; 11:15 am]

BILLING CODE 7535-01-P